DEPARTMENT OF THE INTERIOR

Minerals Management Service

Agency Information Collection Activities: Submitted for Office of Management and Budget (OMB) Review; Comment Request

AGENCY: Minerals Management Service (MMS), Interior.

ACTION: Notice of extension of an information collection (1010-0142).

SUMMARY: To comply with the Paperwork Reduction Act of 1995 (PRA), we are notifying the public that we have submitted to OMB an information collection request (ICR) to renew approval of the paperwork requirements in the regulations under 30 CFR 250, Subpart Q “Decommissioning Activities.” This notice also provides the public a second opportunity to comment on the paperwork burden of these regulatory requirements.

DATES: Submit written comments by August 16, 2004.

ADDRESSES: You may submit comments either by fax (202) 395-6566 or e-mail (OIRA_DOCKET@omb.eop.gov) directly to the Office of Information and Regulatory Affairs, OMB, Attention: Desk Officer for the Department of the Interior (1010-0142). Mail or hand carry a copy of your comments to the Department of the Interior; Minerals Management Service; Attention: Rules Processing Team; Mail Stop 4024; 381 Elden Street; Herndon, Virginia 20170-4817.

FOR FURTHER INFORMATION CONTACT: Arlene Bajusz, Rules Processing Team, (703) 787-1600. You may also contact Arlene Bajusz to obtain a copy, at no cost, of the regulations that require the subject collection of information.

SUPPLEMENTARY INFORMATION: Title: 30 CFR Part 250, Subpart Q, Decommissioning Activities.

OMB Control Number: 1010-0142.

The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The regulations at 30 CFR 250, Subpart Q, implement these requirements and concern decommissioning of platforms, wells, and pipelines, as well as site clearance and platform removal. The MMS uses the information collected under Subpart Q in the following ways:

• To determine the necessity for allowing a well to be temporarily abandoned, the lessee/operator must demonstrate that there is a reason for not permanently abandoning the well, and the temporary abandonment will not constitute a significant threat to fishing, navigation, or other uses of the seabed. MMS uses the information and documentation to verify that the lessee is diligently pursuing the final disposition of the well and that the lessee has performed the temporary plugging of the wellbore.

• The information submitted in initial decommissioning plans in the Alaska and Pacific OCS Regions will permit MMS to become involved in the ground-floor planning of the world-class platform removals anticipated to occur in these OCS regions.

• Site clearance and platform or pipeline removal information ensures that all objects (wellheads, platforms, etc.) installed on the OCS are properly removed using procedures that will protect marine life and the environment during removal operations and that the site is cleared so as not to conflict with or harm other uses of the OCS.

• Decommissioning a pipeline in place is needed to ensure that it will not constitute a hazard to navigation and commercial fishing operations, unduly interfere with other uses of the OCS, or have adverse environmental effects.

• The information is necessary to verify that decommissioning activities comply with approved applications and procedures and are satisfactorily completed.

Frequency: On occasion, annual, and as specified in sections.

Estimated Number and Description of Respondents: Approximately 236 Federal OCS oil, gas, and sulphur lessees and holders of pipeline rights-of-way.

Estimated Reporting and Recordkeeping “Hour” Burden: The estimated annual “hour” burden for this information collection is a total of 8,579 hours. The following chart details the individual components and estimated hour burdens. In calculating the burdens, we assumed that respondents perform certain requirements in the normal course of their activities. We consider these to be usual and customary and took that into account in estimating the burden.

Citation 30 CFR 250 Subpart Q | Reporting requirement | Hour burden | Average number annual responses | Annual burden hours
1703; 1704 | Request approval for decommissioning | Burden included below |  | 0
1704(g); 1712; 1716; 1717; 1721(a), (f), (g); 1722(a), (b), (d); 1723(b); 1743(a) | Submit form MMS-124 to plug wells; provide subsequent report; request alternate depth departure; request procedure to protect obstructions above seafloor; report results of trawling; certify area cleared of obstructions; remove casing stub or mud line suspension equipment and subsea protective covering; or other departures | Burden included under 1010-0045 |  | 0
1713 | Notify MMS 48 hours before beginning operations to permanently plug a well | 15 minutes | 550 notices | 138
1721(e); 1722(e), (h)(1); 1741(c) | Identify and report subsea wellheads, casing stubs, or other obstructions; mark wells protected by a dome; mark location to be cleared as navigation hazard | U.S. Coast Guard requirements |  |
1722(c), (g)(2) | Notify MMS within days if trawl does not pass over protective device or causes damages to it; or if inspection reveals casing stub or mud line suspension is no longer protected | 15 minutes | 10 notices | 3
1721; 1722(f), (g)(3) | Submit annual report on plans for re-entry to complete or permanently abandon the well and inspection report | 2 | 75 reports | 150
1722(h) | Request waiver of trawling test | 2 | 5 requests | 10
1704(a); 1726 | Submit initial decommissioning application in the Pacific OCS Region and Alaska OCS Region | 20 | 2 applications | 40
1704(b); 1725; 1727; 1728; 1730 | Submit final application to remove platform or other subsea facility structures (including alternate depth departure) or approval to maintain, to conduct other operations, or to convert to artificial reef | 10 | 150 applications | 1,500
1725(e) | Notify MMS 48 hours before beginning removal of platform and other facilities | 15 minutes | 150 notices | 38
1704(c); 1729 | Submit post platform or other facility removal report | 8 | 150 reports | 1,200
1740; 1743(b) | Request approval to use alternative methods of well site, platform, or other facility clearance | 8 | 75 requests | 600
1743(b) | Verify permanently plugged well, platform, or other facility removal site cleared of obstructions and submit certification letter | 12 | 150 verifications | 1,800
1704(d); 1751; 1752 | Submit application to decommission pipeline in place or remove pipeline | 8 | 300 applications | 2,400
1753 | Submit post pipeline decommissioning report | 2 | 300 reports | 600
1700 thru 1754 | General departure and alternative compliance requests not specifically covered elsewhere in subpart Q regulations | 2 | 50 requests | 100
Total Hour Burden |  |  | 1,967 | 8,579

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency ” * * *to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 19, 2003, we published a Federal Register notice (68 FR 65307) announcing that we would submit this ICR to OMB for approval. The notice provided the required 60-day comment period. In addition, § 250.199 provides the OMB control number for the information collection requirements imposed by the 30 CFR 250 regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by August 16, 2004.

Public Comment Policy: MMS's practice is to make comments, including names and addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Federal Register Liaison Officer: Denise Johnson at (202) 208-3976.

Dated: March 16, 2004.
E.P. Danenberger,
Chief, Engineering and Operations Division.

[FR Doc. 04-16198 Filed 7-15-04; 8:45 am]

BILLING CODE 4310-MR-U